DEPARTMENT OF COMMERCE

Foreign-Trade Zones Board

[Order No. 1679]

Expansion of Foreign-Trade Zone 272; Lehigh Valley, Pennsylvania

Pursuant to its authority under the Foreign-Trade Zones Act of June 18, 1934, as amended (19 U.S.C. 81a-81u), the Foreign-Trade Zones Board (the Board) adopts the following Order:

Whereas, the Lehigh Valley Economic Development Corporation, grantee of Foreign-Trade Zone 272, submitted an application to the Board for authority to expand FTZ 272 to include a site in Bethlehem, Pennsylvania, adjacent to the Philadelphia Customs and Border Protection port of entry (FTZ Docket 37-2009, filed 9/9/2009);

Whereas, notice inviting public comment has been given in the Federal Register (74 FR 47920-47921, September 18, 2009) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 272 is approved, subject to the FTZ Act and the Board's regulations, including Section 400.28, and to the Board's standard 2,000-acre activation limit for the overall general-purpose zone project, and further subject to a sunset provision that would terminate authority on May 31, 2017 for Site 9 if no activity has occurred under FTZ procedures before that date.

Signed at Washington, DC, this 13th day of May 2010.
Ronald K. Lorentzen,
Deputy Assistant Secretary for Import Administration, Alternate Chairman, Foreign-Trade Zones Board.
Attest:
Andrew McGilvray,
Executive Secretary.

[FR Doc. 2010-12958 Filed 5-27-10; 8:45 am]

BILLING CODE 3510-DS-P